DEPARTMENT OF ENERGY

Federal Energy Regulatory Commission

Combined Notice of Filings

Take notice that the Commission has received the following Natural Gas Pipeline Rate and Refund Report filings:

Docket Numbers: RP20-738-000.

Applicants: Texas Eastern Transmission, LP.

Description: § 4(d) Rate Filing: Negotiated Rates—EAP 911572 to Eco-Energy 8963127 to be effective 4/1/2020.

Filed Date: 4/1/20.

Accession Number: 20200401-5002.

Comments Due: 5 p.m. ET 4/13/20.

Docket Numbers: RP20-739-000.

Applicants: Texas Eastern Transmission, LP.

Description: § 4(d) Rate Filing: Negotiated Rates—Ches Maryland 910915 releases to be effective 4/1/2020.

Filed Date: 4/1/20.

Accession Number: 20200401-5003.

Comments Due: 5 p.m. ET 4/13/20.

Docket Numbers: RP20-740-000.

Applicants: Natural Gas Pipeline Company of America.

Description: § 4(d) Rate Filing: Amendment to a Negotiated Rate Agreement Filing—Macquarie to be effective 4/1/2020.

Filed Date: 4/1/20.

Accession Number: 20200401-5007.

Comments Due: 5 p.m. ET 4/13/20.

Docket Numbers: RP20-741-000.

Applicants: Natural Gas Pipeline Company of America.

Description: § 4(d) Rate Filing: Negotiated Rate Agreement FIling Six One Commodities to be effective 4/1/2020.

Filed Date: 4/1/20.

Accession Number: 20200401-5008.

Comments Due: 5 p.m. ET 4/13/20.

Docket Numbers: RP20-742-000.

Applicants: Natural Gas Pipeline Company of America.

Description: § 4(d) Rate Filing: Negotiated Rate Filing-Uniper Global to be effective 4/1/2020.

Filed Date: 4/1/20.

Accession Number: 20200401-5009.

Comments Due: 5 p.m. ET 4/13/20.

Docket Numbers: RP20-743-000.

Applicants: Northern Border Pipeline Company.

Description: § 4(d) Rate Filing: Negotiated Rate Agreement—Scout Energy to be effective 4/1/2020.

Filed Date: 4/1/20.

Accession Number: 20200401-5015.

Comments Due: 5 p.m. ET 4/13/20.

Docket Numbers: RP20-744-000.

Applicants: Equitrans, L.P.

Description: § 4(d) Rate Filing: Negotiated Capacity Release Agreements—4/1/2020 to be effective 4/1/2020.

Filed Date: 4/1/20.

Accession Number: 20200401-5018.

Comments Due: 5 p.m. ET 4/13/20.

Docket Numbers: RP20-746-000.

Applicants: Iroquois Gas Transmission System, L.P.

Description: § 4(d) Rate Filing: 040120 Negotiated Rates—Hartree Partners, LP R-7090-07 to be effective 4/1/2020.

Filed Date: 4/1/20.

Accession Number: 20200401-5019.

Comments Due: 5 p.m. ET 4/13/20.

Docket Numbers: RP20-747-000.

Applicants: Iroquois Gas Transmission System, L.P.

Description: § 4(d) Rate Filing: 040120 Negotiated Rates—Hartree Partners, LP R-7090-08 to be effective 4/1/2020.

Filed Date: 4/1/20.

Accession Number: 20200401-5020.

Comments Due: 5 p.m. ET 4/13/20.

Docket Numbers: RP20-748-000.

Applicants: Millennium Pipeline Company, LLC.

Description: § 4(d) Rate Filing: Negotiated & Non-Conforming Rate Amd—Boston Gas to be effective 4/1/2020.

Filed Date: 4/1/20.

Accession Number: 20200401-5021.

Comments Due: 5 p.m. ET 4/13/20.

Docket Numbers: RP20-749-000.

Applicants: Natural Gas Pipeline Company of America.

Description: § 4(d) Rate Filing: Negotiated Rate Agreements—Oxy 152038 & 152039 to be effective 4/1/2020.

Filed Date: 4/1/20.

Accession Number: 20200401-5030.

Comments Due: 5 p.m. ET 4/13/20.

Docket Numbers: RP20-750-000.

Applicants: Equitrans, L.P.

Description: Compliance filing Notice Regarding Non-Jurisdictional Gathering Facilities (PL Segs from 0 Flow).

Filed Date: 4/1/20.

Accession Number: 20200401-5089.

Comments Due: 5 p.m. ET 4/13/20.

Docket Numbers: RP20-751-000.

Applicants: Columbia Gas Transmission, LLC.

Description: § 4(d) Rate Filing: OTRA Summer 2020 to be effective 5/1/2020.

Filed Date: 4/1/20.

Accession Number: 20200401-5126.

Comments Due: 5 p.m. ET 4/13/20.

Docket Numbers: RP20-752-000.

Applicants: El Paso Natural Gas Company, L.L.C.

Description: § 4(d) Rate Filing: Non-Conforming Agreement Update (TEP Apr-Jun 2020) to be effective 4/2/2020.

Filed Date: 4/1/20.

Accession Number: 20200401-5157.

Comments Due: 5 p.m. ET 4/13/20.

Docket Numbers: RP20-753-000.

Applicants: Algonquin Gas Transmission, LLC.

Description: § 4(d) Rate Filing: Negotiated Rates—ConEd 510371 Apr 2020 Releases #2 to be effective 4/1/2020.

Filed Date: 4/1/20.

Accession Number: 20200401-5198.

Comments Due: 5 p.m. ET 4/13/20.

Docket Numbers: RP20-754-000.

Applicants: Gulf South Pipeline Company, LLC.

Description: § 4(d) Rate Filing: Cap Rel Neg Rate Agmt (JERA 46435 to EDF 52467) to be effective 4/1/2020.

Filed Date: 4/1/20.

Accession Number: 20200401-5203.

Comments Due: 5 p.m. ET 4/13/20.

Docket Numbers: RP20-755-000.

Applicants: Gulf South Pipeline Company, LLC.

Description: § 4(d) Rate Filing: Amendments to Neg Rate Agmts & Cap Rel Summary (Aethon 37657, 50488) to be effective 4/1/2020.

Filed Date: 4/1/20.

Accession Number: 20200401-5204.

Comments Due: 5 p.m. ET 4/13/20.

Docket Numbers: RP20-756-000.

Applicants: Gulf South Pipeline Company, LLC.

Description: § 4(d) Rate Filing: Cap Rel Neg Rate Agmt (Constellation 52557 to Exelon 52654) to be effective 4/1/2020.

Filed Date: 4/1/20.

Accession Number: 20200401-5210.

Comments Due: 5 p.m. ET 4/13/20.

Docket Numbers: RP20-757-000.

Applicants: Gulf South Pipeline Company, LLC.

Description: § 4(d) Rate Filing: Cap Rel Neg Rate Agmts (Osaka 46429 to Spotlight 52638, Texla 52653) to be effective 4/1/2020.

Filed Date: 4/1/20.

Accession Number: 20200401-5212.

Comments Due: 5 p.m. ET 4/13/20.

Docket Numbers: RP20-758-000.

Applicants: Gulf South Pipeline Company, LLC.

Description: § 4(d) Rate Filing: Cap Rel Neg Rate Agmts (WSGP to NextEra Releases eff 4-1-2020) to be effective 4/1/2020.

Filed Date: 4/1/20.

Accession Number: 20200401-5216.

Comments Due: 5 p.m. ET 4/13/20.

Docket Numbers: RP20-759-000.

Applicants: Gulf South Pipeline Company, LLC.

Description: § 4(d) Rate Filing: Cap Rel Neg Rate Agmt (Scona 52624 to CenterPoint 52658) to be effective 4/1/2020.

Filed Date: 4/1/20.

Accession Number: 20200401-5219.

Comments Due: 5 p.m. ET 4/13/20.

Docket Numbers: RP20-760-000.

Applicants: Texas Gas Transmission, LLC.

Description: § 4(d) Rate Filing: Cap Rel Neg Rate Agmts (SABIC 35304, 35304,35305 to CIMA 38590,38597,38589) to be effective 4/1/2020.

Filed Date: 4/1/20.

Accession Number: 20200401-5221.

Comments Due: 5 p.m. ET 4/13/20.

Docket Numbers: RP20-761-000.

Applicants: Hardy Storage Company, LLC.

Description: § 4(d) Rate Filing: RAM 2020 to be effective 5/1/2020.

Filed Date: 4/1/20.

Accession Number: 20200401-5223.

Comments Due: 5 p.m. ET 4/13/20.

Docket Numbers: RP20-762-000.

Applicants: Gulf South Pipeline Company, LLC.

Description: § 4(d) Rate Filing: Cap Rel Neg Rate Agmt (Methanex 42805 to Tenaska 52648) to be effective 4/1/2020.

Filed Date: 4/1/20.

Accession Number: 20200401-5305.

Comments Due: 5 p.m. ET 4/13/20.

Docket Numbers: RP20-763-000.

Applicants: El Paso Natural Gas Company, L.L.C.

Description: § 4(d) Rate Filing: Negotiated Rate Agreements Filing (Sempra) to be effective 4/1/2020.

Filed Date: 4/1/20.

Accession Number: 20200401-5310.

Comments Due: 5 p.m. ET 4/13/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 3, 2020.
Nathaniel J. Davis, Sr.,
Deputy Secretary.

[FR Doc. 2020-07498 Filed 4-8-20; 8:45 am]

BILLING CODE 6717-01-P